DEPARTMENT OF THE INTERIOR

Bureau of Land Management

[AZ-910-0777-26-241A]

State of Arizona Resource Advisory Council

AGENCY: Bureau of Land Management, Interior.

ACTION: Arizona Resource Advisory Council Tour notice.

SUMMARY: This notice announces a tour of the Arizona Resource Advisory Council (RAC). A pre-tour briefing will be conducted on March 16, 2001 from 8-9 a.m. at the BLM Safford Field Office located at 711 14th Avenue, Safford, Arizona. BLM staff will provide a review of the Standards for Rangeland Health and Guidelines for Grazing Administration (S&Gs) and the implementation process. After the one-hour briefing, BLM staff and RAC will tour a BLM grazing allotment called Johnny Creek near Safford. The tour objectives are to provide the RAC with field training on resource evaluation and on-the-ground S&G application. In addition, the RAC will travel to the San Simon Valley to learn about the planning effort set to begin on the San Simon Watershed. The tour will conclude between 3-4 p.m.

FOR FURTHER INFORMATION CONTACT: Deborah Stevens, Bureau of Land Management, Arizona State Office, 222 North Central Avenue, Phoenix, Arizona 85004-2203, (602) 417-9215.

Joanie Losacco,
(Acting) Arizona State Director.

[FR Doc. 01-3797 Filed 2-14-01; 8:45 am]

BILLING CODE 4310-32-M